FEDERAL RESERVE SYSTEM

Agency Information Ccollection Activities: Announcement of Board Approval Under Delegated Authority and Submission to OMB

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer --Michelle Shore--Division of Research and Statistics, Board of Governors of the Federal Reserve System, Washington, DC 20551 (202-452-3829); OMB Desk Officer--Alexander T. Hunt--Office of Information and Regulatory Affairs, Office of Management and Budget, New Executive Office Building, Room 10235, Washington, DC 20503.

Final approval under OMB delegated authority of the extension for three years, without revision, of the following report:

Report title: Disclosure Requirements Associated with Regulation V

Agency form number: Reg V

OMB control number: 7100-0308¹

¹ The information collections associated with the following rulemakings: Fair Credit Reporting Affiliate Marketing Regulations (Docket No R1203) and Identity Theft Red Flags and Address Discrepancies under the Fair and Accurate Credit Transactions Act of 2003 (Docket No R1255), will be assigned OMB No. 7100-0308.

Frequency: On occasion

Reporters: Financial institutions²

² Under section 217, the term “financial institution” is defined broadly to have the same meaning as in the privacy provisions of the Gramm-Leach-Bliley Act of 1999 (GLB Act), which defines financial institution to mean “any institution the business of which is engaging in financial activities as described in section 4(k) of the Bank Holding Company Act of 1956,” whether or not affiliated with a bank. 15 U.S.C. 6809(3).

Annual reporting hours: 7,500 hours

Estimated average hours per response: .25 hours

Number of respondents: 30,000

General description of report: This information collection is mandatory (15 U.S.C. § 1681s-2(a)(7)). Because the records are maintained at state member banks and the notices are not provided to the Federal Reserve, no issue of confidentiality arises under the Freedom of Information Act.

Abstract: Financial institutions that (1) extend credit and regularly and in the ordinary course of business furnish information to a nationwide consumer reporting agency, and (2) furnish negative information to such an agency regarding credit extended to a customer must provide a clear and conspicuous notice to the customer, in writing, about furnishing this negative information.

Current Actions: On September 6, 2007, the Federal Reserve published a notice in the Federal Register (72 FR 51228) requesting public comment for sixty days on the extension, without revision, of these disclosure requirements; the comment period expired on November 5, 2007. The Federal Reserve did not receive any comments.

Board of Governors of the Federal Reserve System, November 13, 2007.
Robert deV. Frierson,
Deputy Secretary of the Board.

[FR Doc. E7-22454 Filed 11-15-07; 8:45 am]

BILLING CODE 6210-01-S